DEPARTMENT OF COMMERCE

Foreign-Trade Zones Board

[B-65-2012]

Notification of Proposed Production Activity; Winnebago Industries, Inc., Subzone 107A (Polyurethane Coated Upholstery Fabric), Forest City and Charles City, IA

Winnebago Industries, Inc. (Winnebago), operator of Subzone 107A, submitted a notification of proposed production activity for their facilities in Forest City and Charles City, Iowa. The notification conforming to the requirements of the regulations of the Board (15 CFR 400.22) was received on July 24, 2012.

The subzone currently has authority to produce and warehouse recreational vehicles under FTZ procedures using certain imported components. The current request is to cut, sew, upholster and warehouse wet coagulation process 100% polyurethane coated fabric for use as upholstery in motor homes. Production under FTZ procedures for this activity could exempt Winnebago from customs duty payments on the foreign status components used in export production. On its domestic sales, Winnebago would be able to choose the duty rate during customs entry procedures that applies to motor homes (duty rate 2.5%) for the foreign status input noted below. Customs duties also could possibly be deferred or reduced on foreign status production equipment.

Components and materials sourced from abroad include: wet coagulation process 100% polyurethane coated fabric (duty rate 7.5%).

Public comment is invited from interested parties. Submissions shall be addressed to the Board's Executive Secretary at the address below. The closing period for their receipt is October 1, 2012.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Pierre Duy at Pierre.Duy@trade.gov or (202) 482-1378.

Dated: August 14, 2012.
Andrew McGilvray,
Executive Secretary.

[FR Doc. 2012-20541 Filed 8-20-12; 8:45 am]

BILLING CODE P